DEPARTMENT OF COMMERCE

International Trade Administration

The Manufacturing Council: Meeting of the Manufacturing Council

AGENCY: International Trade Administration, U.S. Department of Commerce.

ACTION: Notice of an open meeting via teleconference.

SUMMARY: The Manufacturing Council will hold a meeting via teleconference to deliberate a draft recommendation to the Secretary of Commerce regarding Alternative Energy.

DATES: May 7, 2008.

Time: 11 a.m. EST.

For the Conference Call-In Number and Further Information, Contact: The Manufacturing Council Executive Secretariat, Room 4043, Washington, DC 20230 (Phone: 202-482-1369), or visit the Council's Web site at http://www.manufacturing.gov/council.

Dated: April 18, 2008.
Kate Worthington,
Executive Secretary, The Manufacturing Council.

[FR Doc. E8-8877 Filed 4-22-08; 8:45 am]

BILLING CODE 3510-DR-P